FEDERAL ACCOUNTING STANDARDS ADVISORY BOARD

Notice of Issuance of Statement of Federal Financial Accounting Concepts 10, Omnibus Concepts Amendments 2024: Amending SFFAC 2 With Note Disclosures and MD&A Concepts and Rescinding SFFAC 3

AGENCY: Federal Accounting Standards Advisory Board.

ACTION: Notice.

SUMMARY: Notice is hereby given that the Federal Accounting Standards Advisory Board has issued Statement of Federal Financial Accounting Concepts (SFFAC) 10 titled Omnibus Concepts Amendments 2024: Amending SFFAC 2 with Note Disclosures and MD&A Concepts and Rescinding SFFAC 3.

ADDRESSES: SFFAC 10 is available on the FASAB website at http://www.fasab.gov/accounting-standards/. Copies can be obtained by contacting FASAB at (202) 512-7350.

FOR FURTHER INFORMATION CONTACT: Ms. Monica R. Valentine, Executive Director, 441 G Street NW, Suite 1155, Washington, DC 20548, or call (202) 512-7350.

Authority: 31 U.S.C. 3511(d); Federal Advisory Committee Act, 5 U.S.C. 1001-1014.

Dated: September 27, 2024.
Monica R. Valentine,
Executive Director.

[FR Doc. 2024-22631 Filed 10-1-24; 8:45 am]

BILLING CODE 1610-02-P